CHEMICAL SAFETY AND HAZARD INVESTIGATION BOARD

Senior Executive Service Performance Review Board

AGENCY: Chemical Safety and Hazard Investigation Board.

ACTION: Notice.

SUMMARY: This notice announces changes in the membership of the Senior Executive Service Performance Review Board for the Chemical Safety and Hazard Investigation Board (CSB).

DATES: Effective January 11, 2007.

FOR FURTHER INFORMATION CONTACT: Christopher Kirkpatrick, Office of General Counsel, (202) 261-7600.

SUPPLEMENTARY INFORMATION: 5 U.S.C. 4314(c)(1) requires each agency to establish, in accordance with regulations prescribed by the Office of Personnel Management, a performance review board (PRB). The PRB reviews initial performance ratings of members of the Senior Executive Service (SES) and makes recommendations on performance ratings and awards for senior executives. Because the CSB is a small independent Federal agency, the SES members of the CSB's PRB are being drawn from other Federal agencies.

The Chairperson of the CSB has appointed the following individuals to the CSB Senior Executive Service Performance Review Board:

PRB Member—Lawrence W. Roffee (Executive Director, United States Access Board).

PRB Member—Leon A. Wilson, Jr. (Executive Director, Committee for Purchase From People Who Are Blind or Severely Disabled).

The above-named members of the CSB PRB replace Ronald S. Battocchi (formerly General Counsel, National Transportation Safety Board) and Elizabeth S. Woodruff (formerly General Counsel, Federal Retirement Thrift Investment Board), whose service on the PRB has ended. Their appointments were originally announced in the Federal Register of December 3, 2004 (69 FR 70224).

John S. Bresland (CSB Board Member) continues as Chair of the PRB, as announced in the Federal Register of October 8, 2003 (68 FR 58063).

This notice is published in the Federal Register pursuant to the requirement of 5 U.S.C. 4314(c)(4).

Dated: January 4, 2007.
Raymond C. Porfiri,
Deputy General Counsel.

[FR Doc. E7-224 Filed 1-10-07; 8:45 am]

BILLING CODE 6350-01-P